SECURITIES AND EXCHANGE COMMISSION

[File No. 500-1]

In the Matter of Giant Resources, Inc., and Rush Exploration, Inc., Order of Suspension of Trading

May 4, 2016.

It appears to the Securities and Exchange Commission that there is a lack of current and accurate information concerning the securities of Giant Resources, Inc. (CIK No. 1327926), an Alberta corporation with its principal place of business listed as Calgary, Alberta, Canada with stock quoted on OTC Link under the ticker symbol GIREF, because it has not filed any periodic reports since the period ended December 31, 2012. On August 18, 2015, a delinquency letter was sent by the Division of Corporation Finance to Giant Resources, Inc. requesting compliance with its periodic filing obligations, and Giant Resources, Inc. received the delinquency letter on August 31, 2015, but failed to cure its delinquencies.

It appears to the Securities and Exchange Commission that there is a lack of current and accurate information concerning the securities of Rush Exploration, Inc. (CIK No. 1301574), an Alberta corporation with its principal place of business listed as Edmonton, Alberta, Canada with stock quoted on OTC Link under the ticker symbol REXEF, because it has not filed any periodic reports since the period ended December 31, 2012. On August 18, 2015, a delinquency letter was sent by the Division of Corporation Finance to Rush Exploration, Inc. requesting compliance with its periodic filing obligations, and Rush Exploration, Inc. received the delinquency letter on August 31, 2015, but failed to cure its delinquencies.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 4, 2016, through 11:59 p.m. EDT on May 17, 2016.

By the Commission.
Jill M. Peterson,
Assistant Secretary.

[FR Doc. 2016-10792 Filed 5-4-16; 11:15 am]

BILLING CODE 8011-01-P